DEPARTMENT OF ENERGY

Federal Energy Regulatory Commission

[Docket No. RP03-600-000]

Northwest Pipeline Corporation; Notice of Proposed Changes in FERC Gas Tariff

September 10, 2003.

Take notice that on September 8, 2003, Northwest Pipeline Corporation (Northwest) tendered for filing as part of its FERC Gas Tariff, Third Revised Volume No. 1, the following tariff sheets, to be effective October 9, 2003:

Third Revised Sheet No. 53

Fifth Revised Sheet No. 54

Fifth Revised Sheet No. 55

First Revised Sheet No. 56

Fourth Revised Sheet No. 109

Third Revised Sheet No. 110

First Revised Sheet No. 129

Seventh Revised Sheet No. 228

Northwest states that the purpose of this filing is to revise Northwest's tariff to provide additional nomination flexibility after the intraday 2 (ID2) nomination cycle for certain services. Specifically, Northwest states that it proposes: (i) To expand the existing provision that allows two post-ID2 nominations of storage withdrawals under Rate Schedule SGS-2F to also cover storage injections; (ii) to add a similar post-ID2 nomination provision to Rate Schedule PAL for park and loan services; and (iii) to expand the existing provision allowing two post-ID2 nominations of transportation services related to certain storage withdrawals to also cover nominations for transportation related to certain storage injections, Rate Schedule PAL services or storage services under rate schedules established by third parties for storage facilities connected to Northwest's system.

Northwest states that a copy of this filing has been served upon Northwest's customers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “e-Library” (FERRIS). Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: September 22, 2003.

Magalie R. Salas,
Secretary.

[FR Doc. 03-23662 Filed 9-16-03; 8:45 am]

BILLING CODE 6717-01-P